DEPARTMENT OF ENERGY

Federal Energy Regulatory Commission

Sunshine Act Meeting Notice

The following notice of meeting is published pursuant to section 3(a) of the government in the Sunshine Act (Pub. L. 94-409), 5 U.S.C. 552b:

TIME AND DATE: April 21, 2016, 10 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1026th—Meeting
[Regular Meeting; April 21, 2016; 10:00 a.m.]
Item No. | Docket No. | Company
ADMINISTRATIVE
A-1 | AD16-1-000 | Agency Administrative Matters.
A-2 | AD16-7-000 | Customer Matters, Reliability, Security and Market Operations.
A-3 | AD16-19-000 | National Labs Panel on Grid Modernization.
A-4 | AD16-20-000 | Electric Storage Participation in Regions with Organized Wholesale Electric Markets.
ELECTRIC
E-1 | EL12-80-001 | Exelon Wind 1, LLC.
| QF05-114-004 |
| QF05-116-004 | Exelon Wind 2, LLC.
| QF05-115-004 | Exelon Wind 3, LLC.
| QF03-13-005 | Exelon Wind 4, LLC.
| QF06-289-004 | Exelon Wind 5 LLC.
| QF06-290-004 | Exelon Wind 6, LLC.
| QF07-46-004 | Exelon Wind 7, LLC.
| QF07-53-004 | Exelon Wind 8, LLC.
| QF07-54-004 | Exelon Wind 9, LLC
| QF07-55-004 | Exelon Wind 10, LLC.
| QF07-56-004 | Exelon Wind 11, LLC.
| QF07-257-003 | High Plains Wind Power, LLC.
E-2 | EL14-28-000 | Occidental Chemical Corporation.
| QF00-64-002 |
E-3 | EL13-41-000 | Occidental Chemical Corporation v. Midwest Independent Transmission System Operator, Inc.
E-4 | EL13-88-000 | Northern Indiana Public Service Company v. Midcontinent Independent System Operator, Inc. and PJM Interconnection, LLC.
E-5 | EL14-20-000 | Independent Market Monitor for PJM v. PJM Interconnection, LLC.
E-6 | EL12-54-000 | Viridity Energy, Inc. v. PJM Interconnection, LLC.
E-7 | EF15-10-000 | Western Area Power Administration.
E-8 | QM14-3-001 | Entergy Services, Inc.
|  | Entergy Arkansas, Inc.
|  | Entergy Gulf States Louisiana, LLC.
|  | Entergy Louisiana, LLC.
|  | Entergy Mississippi, Inc.
|  | Entergy New Orleans, Inc.
|  | Entergy Texas, Inc.
E-9 | ER14-2850-004 | Southwest Power Pool, Inc.
| ER14-2851-004 |
E-10 | OMITTED |
E-11 | OMITTED |
E-12 | ER11-2275-003 | Midwest Independent Transmission System Operator, Inc.
E-13 | ER15-952-001 | New Jersey Energy Associates, a Limited Partnership.
E-14 | ER16-763-000 | NorthWestern Corporation.
E-15 | ER15-1861-001 | Tucson Electric Power Company.
| ER15-1862-001 |
E-16 | ER15-553-001 | San Diego Gas & Electric Company.
E-17 | ER16-866-000 | MDU Resources Group, Inc.
E-18 | EL09-61-003 | Louisiana Public Service Commission v. Entergy Corporation, Entergy Services, Inc., Entergy Louisiana, LLC, Entergy Arkansas, Inc., Entergy Mississippi, Inc., Entergy New Orleans, Inc., Entergy Gulf States Louisiana, LLC and Entergy Texas, Inc.
E-19 | EL09-61-002 | Louisiana Public Service Commission v. Entergy Corporation, Entergy Services, Inc., Entergy Louisiana, LLC, Entergy Arkansas, Inc., Entergy Mississippi, Inc., Entergy New Orleans, Inc., Entergy Gulf States Louisiana, LLC and Entergy Texas, Inc.
E-20 | OMITTED |
E-21 | ER14-822-002 | PJM Interconnection, LLC.
| ER14-822-003 |
E-22 | ER14-504-001 | PJM Interconnection, LLC.
E-23 | ER13-2108-001 | PJM Interconnection, LLC.
E-24 | OMITTED |
E-25 | ER09-411-005 | Midwest Independent Transmission System Operator, Inc.
E-26 | ER11-2275-002 | Midwest Independent Transmission System Operator, Inc.
E-27 | OMITTED |
E-28 | EL07-86-012 | Ameren Services Company and Northern Indiana Public Service Company v. Midwest Independent Transmission System Operator, Inc.
| EL07-88-012 | Great Lakes Utilities.
|  | Indiana Municipal Power Agency.
|  | Missouri Joint Municipal Electric Utility Commission.
|  | Missouri River Energy Services.
|  | Prairie Power, Inc.
|  | Southern Minnesota Municipal Power Agency.
|  | Wisconsin Public Power Inc. v. Midwest Independent Transmission System Operator, Inc.
| EL07-92-012 | Wabash Valley Power Association, Inc. v. Midwest Independent Transmission System Operator, Inc.
E-29 | OMITTED |
E-30 | EL16-41-000 | Morongo Transmission LLC.
E-31 | EL14-66-003 | E.ON Climate & Renewables North America LLC.
|  | Pioneer Trail Wind Farm, LLC.
|  | Settlers Trail Wind Farm, LLC v. Northern Indiana Public Service Company.
E-32 | EL16-29-000 | North Carolina Electric Membership Corporation.
|  | North Carolina Municipal Power Agency Number 1.
|  | Piedmont Municipal Power Agency.
|  | City of Concord, NC.
|  | City of Kings Mountain, NC v. Duke Energy Carolinas, LLC.
| EL16-30-000 | North Carolina Electric Membership Corporation.
|  | North Carolina Eastern Municipal Power Agency.
|  | Fayetteville Public Works Commission v. Duke Energy Progress, LLC.
E-33 | EL12-60-001 | Southwest Power Pool, Inc.
|  | Western Area Power Administration.
|  | Basin Electric Power Cooperative.
|  | Heartland Consumers Power District.
| ER12-1586-002 | Southwest Power Pool, Inc.
| ER12-1586-003
E-34 | ER16-120-000 | New York Independent System Operator, Inc.
| EL15-37-001
GAS
G-1 | RP13-743-004 | ANR Pipeline Company and Great Lakes Gas Transmission Limited Partnership.
| RP15-138-002
| RP15-139-002 (Consolidated)
| RP14-650-000
| RP14-650-001
| RP15-785-000 (Not Consolidated)
G-2 | OR14-17-001 | Colonial Pipeline Company.
G-3 | OR13-3-000 | Buckeye Pipe Line Company, LP.
G-4 | IS09-348-011 | BP Pipelines (Alaska) Inc.
| IS09-395-011
| IS10-204-010
| IS10-491-000
| IS10-491-006
| IS09-384-010 | ConocoPhillips Transportation Alaska, Inc.
| IS10-205-009
| IS10-476-000
| IS10-476-006
| IS09-391-010 | ExxonMobil Pipeline Company.
| IS09-177-012
| IS10-200-009
| IS10-547-000
| IS10-547-005
| IS10-54-008 | Koch Alaska Pipeline Company, LLC.
| IS10-496-000
| IS10-496-006
| IS09-176-011 | Unocal Pipeline Company.
| IS07-41-009
| IS08-53-009
| IS10-52-008
| OR10-3-009
| IS10-490-000
| IS10-490-005
| IS11-3-000
| IS11-3-004
G-5 | IS11-335-000 | BP Pipelines (Alaska) Inc.
| IS12-458-000
| IS13-62-000
| IS13-108-000
| IS13-506-000
| IS15-88-000
| IS16-76-000
| IS11-306-000 | ConocoPhillips Transportation Alaska, Inc.
| IS12-498-000
| IS13-480-000
| IS13-125-000
| IS14-596-000
| IS15-522-000
| IS11-336-000 | ExxonMobil Pipeline Company.
| IS12-397-000
| IS13-55-000
| IS13-496-000
| IS14-575-000
| IS15-580-000
| IS11-546-000 | Unocal Pipeline Company.
| IS11-328-000 | Koch Alaska Pipeline Company, LLC.
G-6 | IS15-522-001 | ConocoPhillips Transportation Alaska, Inc.
| IS11-306-003, et al. (Consolidated) | ConocoPhillips Transportation Alaska, Inc.
G-7 | IS15-580-001 | ExxonMobil Pipeline Company.
| IS11-306-004, et al. (Consolidated) | ConocoPhillips Transportation Alaska, Inc.
HYDRO
H-1 | P-13287-004 | City of New York, New York.
H-2 | P-14316-002 | Columbia Basin Hydropower.
| P-14318-002
| P-14349-002
| P-14351-002
H-3 | P-13333-005 | Public Utility District No. 1 of Klickitat County, Washington.
| P-14729-001 | Clean Power Development, LLC.
H-4 | P-7856-027 | Willow Creek Hydro, LLC.
H-5 | P-2146-141 | Alabama Power Company.
CERTIFICATES
C-1 | CP16-1-000 | Dominion Transmission, Inc.

Issued: April 14, 2016.
Nathaniel J. Davis, Sr.,
Deputy Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-09256 Filed 4-18-16; 4:15 pm]

BILLING CODE 6717-01-P